DEPARTMENT OF THE INTERIOR

Fish and Wildlife Service

Choctaw National Wildlife Refuge

AGENCY: Fish and Wildlife Service, Interior.

ACTION: Notice of intent to prepare a Comprehensive Conservation Plan and Environmental Assessment for Choctaw National Wildlife Refuge located in Monroe, Sumter, and Conecuh Counties, Alabama

SUMMARY: The Fish and Wildlife Service, Southeast Region, intends to gather information necessary to prepare a comprehensive conservation plan and environmental assessment pursuant to the National Environmental Policy Act and its implementing regulations. The Service is furnishing this notice in compliance with the National Wildlife Refuge System Administration Act of 1966, as amended (16 U.S.C. 668dd et seq.), to achieve the following:

(1) Advise other agencies and the public of our intentions, and

(2) Obtain suggestions and information on the scope of issues to include in the environmental document.

Special mailings, newspaper articles, and other media announcements will be used to inform the public and State and local government agencies of the opportunities for input throughout the planning process. An open house style meeting will be held during the scoping phase of the comprehensive conservation plan development process.

DATES: To ensure consideration, we must receive written comments on or before August 20, 2004.

ADDRESSES: Address comments, questions, and requests for more information to Mike Dawson, Refuge Planner, U.S. Fish and Wildlife Service, 6578 Dogwood View Parkway, Suite B, Jackson, Mississippi 39213.

SUPPLEMENTARY INFORMATION: By Federal law, all lands within the National Wildlife Refuge System are to be managed in accordance with an approved comprehensive conservation plan. This plan guides management decisions and identifies the goals, long-range objectives, and strategies for achieving refuge purposes. The planning process will consider many elements, including wildlife and habitat management, public recreational activities, and cultural resource protection. Public input into this planning process is essential.

Choctaw National Wildlife Refuge was established in 1964 on lands acquired by the Corps of Engineers in conjunction with the Coffeeville Lock and Dam project. The refuge is located 10 miles northwest of Coffeeville, Alabama, across the Tombigbee River, and north of Highway 84 in southwest Alabama, approximately 80 miles north of Mobile. The 4,218-acre refuge encompasses approximately 1,802 acres of lakes, sloughs, and creeks; 2,265 acres of bottomland hardwoods; and 151 acres of croplands and moist-soil units. Access to this bottomland hardwood refuge is sometimes only possible by boat in the spring. Road access is limited due to frequent flooding and storms.

The primary purpose of the refuge is to provide wood duck brood habitat and serve as a protected wintering area for waterfowl. Up to 200 broods of wood ducks are produced annually in the refuge's artificial nest boxes, and wintering waterfowl numbers can exceed 10,000. Following a successful bald eagle hacking program in the early 1990s, the refuge has played host to a nesting pair of eagles each winter.

FOR FURTHER INFORMATION CONTACT: Refuge Planner, U.S. Fish and Wildlife Service, Jackson, Mississippi Field Office, telephone: (601) 965-4903; fax: (601) 965-4010; e-mail mike_dawson@fws.gov; or mail (write to Refuge Planner at address in ADDRESSES section).

Authority: This notice is published under the authority of the National Wildlife Refuge System Improvement Act of 1977, Public Law 105-57.

Dated: May 18, 2004.
J. Mitch King,
Acting Regional Director.

[FR Doc. 04-15222 Filed 7-2-04; 8:45 am]

BILLING CODE 4310-55-M